DEPARTMENT OF COMMERCE

National Oceanic and Atmospheric Administration

[I.D. 011607A]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by the University of Maryland Eastern Shore (UMES) contains all of the required information and warrants further consideration. The Assistant Regional Administrator has made a preliminary determination that the activities authorized under this EFP would be consistent with the goals and objectives of the Northeast (NE) Multispecies and Monkfish Fishery Management Plans (FMPs). However, further review and consultation may be necessary before a final determination is made to issue an EFP. Therefore, NMFS announces that the Assistant Regional Administrator proposes to recommend that an EFP be issued that would allow one commercial fishing vessel to conduct fishing operations that are otherwise restricted by the regulations governing the fisheries of the Northeastern United States. The EFP, which would enable researchers to study the biology of large monkfish, would grant exemptions from the NE Multispecies FMP as follows: Western Gulf of Maine (GOM) Closure Area; GOM Rolling Closure Areas I and II; and NE multispecies effort control measures.

Regulations under the Magnuson-Stevens Fishery Conservation and Management Act require publication of this notification to provide interested parties the opportunity to comment on applications for proposed EFPs.

DATES: Comments must be received on or before February 6, 2007.

ADDRESSES: You may submit written comments by any of the following methods:

• Email: DA6-387@noaa.gov. Include in the subject line “Comments on UMES monkfish EFP.”

• Mail: Patricia A. Kurkul, Regional Administrator, NMFS, NE Regional Office, 1 Blackburn Drive, Gloucester, MA 01930. Mark the outside of the envelope “Comments on UMES monkfish EFP, DA6-387.”

• Fax: (978) 281-9135.

FOR FURTHER INFORMATION CONTACT: Douglas Potts, Fishery Management Specialist, 978-281-9341.

SUPPLEMENTARY INFORMATION: An application for an EFP was submitted on December 28, 2006, by Andrea K. Johnson, Ph.D., Research Assistant Professor at UMES, for a project funded under the New England and Mid-Atlantic Fishery Management Councils' Monkfish Research Set-Aside (RSA) Program. The primary goal of this study is to investigate the length-weight relationship, spawning frequency, and rate of cannibalism in these members of the population not often reflected in the trawl survey. This information is considered to be very helpful to the management of the species. This is the second year this project has been funded under the Monkfish RSA Program.

The project is scheduled to be conducted for 1 year (May 2007-April 2008) and would collect large monkfish from three industry collaborators fishing using 102 Monkfish Days-At-Sea (DAS) awarded to the project through the RSA Program. Monkfish gillnet vessels fishing in the Southern Fishery Management Area will collect large monkfish as part of otherwise normal fishing activities and do not require an EFP. One vessel would fish inside the eastern edge of the Western GOM Closure Area from August 2007 through April 2008. Fishing would take place in deep mud habitats outside of the Western GOM Habitat Closure Area. This is east of the Stellwagen Bank National Marine Sanctuary and would require exemption from the gear restrictions of the Western GOM Closure Area at 50 CFR 648.81(e), as well as from the restrictions of Rolling Closure Areas I and II at § 648.81(f) that will be in effect during March and April 2008. It is expected that this location would provide access to large monkfish and would avoid gear interactions between these gillnets and trawls. The applicant is also requesting exemption from the NE multispecies effort control measures at § 648.80(a)(3)(vi) in order to create sufficient incentive for a commercial vessel to participate in this experiment. This would exempt the vessel from the need to use a NE Multispecies DAS concurrent with Monkfish RSA DAS for these trips.

The vessel would make up to 48 trips (30 DAS) using gillnets that are 13-inch (33-cm) stretch mesh with 24 gauge web and 12 meshes deep. Each net is 300 ft (91 m) long by 3 ft (0.91 m) high, and 150 nets would be used with an average soak time of 72 hr. Ten fish per week would be donated to the research project during the months of August-September, and five fish per week from October-April 2008. This project is specifically interested in large monkfish, so donated fish would be the largest from each trip, at least 90 cm total length. Additional catch, within applicable size and possession limits, would be sold to help offset the costs of the research. As a consequence of the exemption from the need to use a NE Multispecies DAS, the vessel would not keep any regulated groundfish. Since these trips would use very large mesh nets, the bycatch of regulated groundfish is expected to be minimal.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: January 17, 2007.
James P. Burgess,
Acting Director, Office of Sustainable Fisheries, National Marine Fisheries Service.

[FR Doc. E7-767 Filed 1-19-07; 8:45 am]

BILLING CODE 3510-22-S